DEPARTMENT OF HEALTH AND HUMAN SERVICES

Centers for Disease Control and Prevention

[30Day-10-09AM]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Prevalence Survey of Healthcare Associated Infections (HAIs) and Antimicrobial Use in U.S. Acute Care Hospitals—New—National Center for Emerging and Zoonotic Infectious Diseases (NCEZID) (proposed), Centers for Disease Control and Prevention (CDC).

Background and Brief Description

CDC is requesting OMB approval to conduct two surveys to obtain national estimates of HAI prevalence and antimicrobial use in the United States. Preventing HAIs is a CDC priority, and an essential step in reducing the occurrence of HAIs is to accurately estimate the burden of these infections in U.S. hospitals and to describe the types of HAIs and their causative organisms, including antimicrobial-resistant pathogens.

The scope and magnitude of HAIs in the U.S. were last directly estimated in the 1970s and 1980s by CDC's Study on the Efficacy of Nosocomial Infection Control (SENIC), in which comprehensive data were collected from a sample of 338 hospitals; 5% of hospitalized patients acquired an infection not present at the time of admission. CDC's current HAI surveillance system, the National Healthcare Safety Network (NHSN) (OMB Control No. 0920-0666, expiration date 9/30/2012), focuses instead on device-associated and procedure-associated infections in a variety of patient locations, and does not receive data on all types of HAIs to make hospital-wide burden estimates. The purpose of this information collection request is to assess the magnitude and types of HAIs and antimicrobial use occurring in all patient populations within acute care hospitals. This information will be used to inform decisions made by local and national policy makers and hospital infection control personnel regarding appropriate targets and strategies for preventing HAIs and the emergence of antimicrobial-resistant pathogens and encouraging appropriate antimicrobial use. Such assessments can be obtained in periodic national prevalence studies, such as those that have been conducted in several European countries.

CDC proposes to conduct two surveys to collect this data. The first survey will be a limited roll-out survey and will be conducted in 30 facilities across 10 states in collaboration with state public health authorities and CDC's Emerging Infections Program (EIP). The survey will be conducted on a single day in participating facilities. Infection Control Practitioners in participating facilities, such as infection control personnel, will collect limited demographic and clinical information on a sample of eligible inpatients and, on the same day, EIP site personnel will collect information on HAIs and antimicrobial use for surveyed patients who are on antimicrobial therapy at the time of the survey. The second survey will involve 500 facilities across the same 10 states and use the same methodology. As with the first survey, CDC will collaborate with state public health authorities and EIP sites.

CDC has made the following assumptions in calculating the response burden. Infection Control Practitioners will be asked to collect a minimal amount of data, limited to basic demographic and risk factor/antimicrobial use information. We anticipate that this data collection will take 5 minutes per patient. EIP personnel will complete data collection on antimicrobial use and HAIs. CDC estimates that this data collection will take approximately 15 minutes per patient.

CDC has assumed an average daily patient census of 250 patients for each of the 30 participating facilities in Survey #1. An Infection Control Practitioner (ICP) in his/her own facility will be asked to review ⅓ or 33% of this number (250); thus, the ICP would review 82.5 records (rounded up to 83). This number is estimated to be the same in each phase of the prevalence survey effort.

EIP Personnel will be reviewing medical records of approximately 40% of all patients surveyed in their EIP site in both surveys #1 and #2. In Survey #1, the total number of patient records surveyed in each EIP site (assuming 3 facilities in each EIP site and 83 patient records per site) is 247.5 patient records. Forty percent of that number (247.5) is 99 patient records or 99 responses per EIP site. In Survey #2, there will be more facilities participating per EIP site (50 facilities per EIP site for a total of 500 facilities). Again, CDC assumes 82.5 records surveyed per site (50 × 82.5) or a total of 4,125 patient records. As above, EIP personnel in each of the 10 sites will review approximately 40% of the 4,125 patient records per site or 1,650 patient records.

CDC will use the data provided to estimate the prevalence of HAIs and antimicrobial use across this sample of U.S. hospitals as well as to estimate the distribution of infection types, causative organisms, and nature of and rationale for antimicrobial use.

This proposed project supports CDC's Strategic Goal of “Healthy Healthcare Settings,” specifically the objectives to “Promote compliance with evidence-based guidelines for preventing, identifying, and managing disease in healthcare settings” and “Prevent adverse events in patients and healthcare workers in healthcare settings.”

There are no costs to respondents, other than their time to complete the survey. The total annualized burden for this data collection is 8,039 hours.

Estimate of Annualized Burden Hours
Respondents | Number of respondents | Number of responses per respondent | Average burden per response (in hours)
Infection Control Practitioners—Survey #1 | 30 | 83 | 5/60
EIP Personnel—Survey #1 | 10 | 99 | 15/60
Infection Control Practitioners—Survey #2 | 500 | 83 | 5/60
EIP Personnel—Survey #2 | 10 | 1,650 | 15/60

Dated: February 26, 2010.
Maryam I. Daneshvar,
Acting Reports Clearance Officer, Centers for Disease Control and Prevention.

[FR Doc. 2010-4885 Filed 3-8-10; 8:45 am]

BILLING CODE 4163-18-P